GENERAL SERVICES ADMINISTRATION

[FMR Bulletin PBS-2011-B1; Docket 2011-0006; Sequence 1]

Federal Management Regulation; FMR Bulletin PBS-2011-B1; Redesignations of Federal Buildings

AGENCY: Public Buildings Service (P), General Services Administration.

ACTION: Notice of a bulletin.

SUMMARY: The attached bulletin announces the redesignations of three Federal buildings.

DATES: Expiration Date: This bulletin announcement expires June 30, 2011. The building redesignations remain in effect until canceled or superseded by another bulletin.

FOR FURTHER INFORMATION CONTACT: U.S. General Services Administration, Public Buildings Service (P), Attn: David E. Foley, 1800 F Street, NW., Washington, DC 20405, e-mail at david.foley@gsa.gov. (202) 501-1100.

Dated: January 27, 2011.
Martha Johnson,
Administrator of General Services.

U.S. General Services Administration

Redesignations of Federal Buildings

To: Heads of Federal Agencies.

Subject: Redesignations of Federal Buildings.

1. What is the purpose of this bulletin? This bulletin announces the redesignations of three Federal buildings.

2. When does this bulletin expire? This bulletin announcement expires June 30, 2011. The building redesignations remain in effect until canceled or superseded by another bulletin.

3. Redesignations. The former and new names of the redesignated buildings are as follows:

Former name | New name
Federal Building, 100 North Palafox Street, Pensacola, FL 32502 | Winston E. Arnow Federal Building, 100 North Palafox Street, Pensacola, FL 32502.
Federal Building and United States Courthouse, 515 9th Street, Rapid City, SD 57701 | Andrew W. Bogue Federal Building and United States Courthouse, 515 9th Street, Rapid City, SD 57701.
Federal Building, 6401 Security Boulevard, Baltimore, MD 21207 | Robert M. Ball Federal Building, 6401 Security Boulevard, Baltimore, MD 21207.

4. Who should we contact for further information regarding redesignation of these Federal buildings? U.S. General Services Administration, Public Buildings Service (P), Attn: David E. Foley, 1800 F Street, NW., Washington, DC 20405, telephone number: (202) 501-1100, e-mail at david.foley@gsa.gov.

Dated: January 27, 2011.

MARTHA JOHNSON,

Administrator of General Services.

[FR Doc. 2011-2755 Filed 2-7-11; 8:45 am]

BILLING CODE 6820-23-P